FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 003628N.

Name: South American Freight International, Inc.

Address: 9000 W. Flagler Street, Unit 5, Miami, FL 33174.

Date Revoked: May 7, 2011.

Reason: Failed to maintain a valid bond.

License Number: 14804N.

Name: Metro Freight Int'l Inc.

Address: 161-15 Rockaway Blvd., Suite 301, Jamaica, NY 11434.

Date Revoked: May 1, 2011.

Reason: Failed to maintain a valid bond.

License Number: 018218N.

Name: Pacheco Express Shipping Inc.

Address: 1570 Webster Avenue, Bronx, NY 10457.

Date Revoked: May 8, 2011.

Reason: Failed to maintain a valid bond.

License Number: 021442F.

Name: Ferm Holdings, Inc.

Address: 3460 NW 115th Avenue, Miami, FL 33178.

Date Revoked: May 1, 2011.

Reason: Failed to maintain a valid bond.

License Number: 022074F.

Name: Stream Links Express, Inc. dba E-Freight Solutions.

Address: 16328 Avalon Road, Gardena, CA 90248.

Date Revoked: May 6, 2011.

Reason: Failed to maintain a valid bond.

Sandra L. Kusumoto,
Director, Bureau of Certification and Licensing.

[FR Doc. 2011-13743 Filed 6-1-11; 8:45 am]

BILLING CODE 6730-01-P